DEPARTMENT OF ENERGY

Federal Energy Regulatory Commission

[Docket No. CP07-52-000; Docket Nos. CP07-53-000; CP07-53-001]

Downeast LNG, Inc., Downeast Pipeline, LLC; Notice of Availability of the Final Environmental Impact Statement for the Proposed Downeast LNG Project

The staff of the Federal Energy Regulatory Commission (FERC or Commission) has prepared a final environmental impact statement (EIS) for the Downeast LNG Project, proposed by Downeast LNG, Inc. and Downeast Pipeline, LLC (collectively Downeast) in the above-referenced dockets. Downeast requests authorization to construct and operate a proposed liquefied natural gas (LNG) import terminal, natural gas sendout pipeline, and associated facilities in Washington County, Maine. The Downeast LNG Project would provide about 500 million cubic feet per day of imported natural gas to the New England region.

The final EIS assesses the potential environmental effects of the construction and operation of the Downeast LNG Project in accordance with the requirements of the National Environmental Policy Act (NEPA). The FERC staff concludes that approval of the proposed project, with the mitigation measures recommended in the EIS, would ensure that most impacts in the project area would be avoided or reduced to less than significant levels. Construction and operation of the project would primarily result in temporary and short-term environmental impacts; however, some long-term and permanent environmental impacts would occur.

The U.S. Coast Guard; U.S. Army Corps of Engineers; National Oceanic and Atmospheric Administration, National Marine Fisheries Service; U.S. Environmental Protection Agency; U.S. Department of Transportation; and the Maine Department of Environmental Protection participated as cooperating agencies in the preparation of the EIS. Cooperating agencies have jurisdiction by law or special expertise with respect to resources potentially affected by the proposal and participate in the NEPA analysis. Although the cooperating agencies provided input to the conclusions and recommendations presented in the EIS, the agencies will present their own conclusions and recommendations in their respective Records of Decision or other determinations for the project.

The final EIS addresses the potential environmental effects of the construction and operation of the following project facilities:

• A new marine terminal that would include a 3,862-foot-long pier with a single berth and vessel mooring system, intended to handle LNG vessels ranging from 70,000 to 165,000 cubic meters in capacity, with future expansion capabilities to handle vessels with 220,000 cubic meters of cargo capacity;

• two full-containment LNG storage tanks, each with a nominal usable storage capacity of 160,000 cubic meters;

• LNG vaporization and processing equipment;

• piping, ancillary buildings, safety systems, and other support facilities;

• three vapor fences around the LNG terminal;

• a 29.8-mile-long, 30-inch-diameter underground natural gas pipeline;

• natural gas metering facilities located at the LNG terminal site; and

• various ancillary facilities including pigging ¹ facilities and three mainline block valves.

¹ A “pig” is a tool for cleaning and inspecting the inside of a pipeline.

The FERC staff mailed copies of the EIS to Federal, state, and local government representatives and agencies; elected officials; environmental and public interest groups; Native American tribes; potentially affected landowners and other interested individuals and groups; newspapers and libraries in the project area; and parties to this proceeding.

Everyone on our environmental mailing list will receive a CD version of the final EIS. Paper copy versions of the EIS were mailed to those specifically requesting them. Only volume 1 of the final EIS, containing text of the analysis, was printed in hard copy. Volume 2, containing additional appendices, was produced as .pdf files on a CD. Responses to comments received on the draft EIS and Supplemental draft EIS are included in Appendix S and T, respectively. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Additional information about the project is available from the Commission's Office of External Affairs, at (866) 208-FERC, or on the FERC Web site (www.ferc.gov) using the eLibrary link. Click on the eLibrary link, click on “General Search,” and enter the docket number excluding the last three digits in the Docket Number field (i.e., CP07-52 or CP07-53). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to www.ferc.gov/docs-filing/esubscription.asp.

Dated: May 15, 2014.
Kimberly D. Bose,
Secretary.

[FR Doc. 2014-11861 Filed 5-21-14; 8:45 am]

BILLING CODE 6717-01-P